DEPARTMENT OF ENERGY

Federal Energy Regulatory Commission

Notice of Application for Approval of Amendment of License and Soliciting Comments, Motions To Intervene, and Protests

July 18, 2005.

Take notice that the following application has been filed with the Commission and is available for public inspection:

a. Application Type: Amendment of Recreation Plan.

b. Project No.: 2833-092.

c. Date Filed: May 31, 2005.

d. Applicant: Lewis County PUD No. 1.

e. Name of Project: Cowlitz Falls Project.

f. Location: The project is located on the Cowlitz and Cispus Rivers, in Lewis County, Washington.

g. Filed Pursuant to: Federal Power Act, 16 U.S.C. 791(a)-825(r) and 799 and 801.

h. Applicant Contact: Debbie Angwood, Lewis County PUD, 31 NW Pacific Avenue, Chehalis, WA 98532-0330 (360) 740-2457.

i. FERC Contact: Any questions on this notice should be addressed to Mrs. Heather Campbell at (202) 502-6182, or e-mail address: heather.campbell@ferc.gov.

j. Deadline for filing comments and or motions: August 15, 2005.

All documents (original and eight copies) should be filed with: Ms. Magalie R. Salas, Secretary, Federal Energy Regulatory Commission, 888 First Street, NE., Washington DC 20426. Please include the project number (P-2833-092) on any comments or motions filed. Comments, protests, and interventions may be filed electronically via the internet in lieu of paper. See, 18 CFR 385.2001(a)(1)(iii) and the instructions on the Commission's Web site at http://www.ferc.gov under the e-Filing link. The Commission strongly encourages e-filings.

k. Description of Requests: Lewis County PUD is proposing to amend its recreation plan to relocate the canoe/kayaker takeout area. The site approved in the license is inaccessible. The proposed new site would provide access for rafters along the Cispus River.

l. Location of the Application: This filing is available for review at the Commission in the Public Reference Room 888 First Street, NE., Room 2A, Washington, DC 20426 or may be viewed on the Commission's website at http://www.ferc.gov using the “e-library” link. Enter the docket number excluding the last three digits in the docket number field to access the document. For assistance, call toll-free 1-866-208-3676 or e-mail FERCOnlineSupport@ferc.gov. For TTY, call (202) 502-8659. A copy is also available for inspection and reproduction at the address in item h. above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described applications. Copies of the applications may be obtained by agencies directly from the Applicant. If an agency does not file comments within the time specified for filing comments, it will be presumed to have no comments. One copy of an agency's comments must also be sent to the Applicant's representatives.

Magalie R. Salas,
Secretary.

[FR Doc. E5-3920 Filed 7-21-05; 8:45 am]

BILLING CODE 6717-01-P